DEPARTMENT OF TRANSPORTATION

Federal Motor Carrier Safety Administration

[Docket No. FMCSA-2025-0065]

Agency Information Collection Activities; New Information Collection: Crash Causal Factors Program: Heavy-Duty Truck Study Data Collection

AGENCY: Federal Motor Carrier Safety Administration (FMCSA), Department of Transportation (DOT).

ACTION: Notice and request for comments.

SUMMARY: In accordance with the Paperwork Reduction Act of 1995, the FMCSA announces its plan to submit the information collection request (ICR) described below to the Office of Management and Budget (OMB) for its review and approval and invites public comment. This ICR relates to the planned information collection (IC) titled: “Crash Causal Factors Program: Heavy-Duty Truck Study Data Collection.” This IC supports the data collection phase of the Heavy-Duty Truck Study, which was mandated by Congress in Section 23006 of the Infrastructure and Investment and Jobs Act (IIJA). This IC will collect data from the State jurisdictions that were identified as part of a nationally representative study sample of fatal crashes involving heavy-duty trucks (Class 7 and 8 trucks).

DATES: Comments on this notice must be received on or before October 27, 2025.

ADDRESSES: You may submit comments identified by Docket Number FMCSA-2025-0065 using any of the following methods:

• Federal eRulemaking Portal: Go to https://www.regulations.gov/docket/FMCSA-2025-0065/document. Follow the online instructions for submitting comments.

• Mail: Dockets Operations, U.S. Department of Transportation, 1200 New Jersey Avenue SE, West Building, Ground Floor, Washington, DC 20590-0001.

• Hand Delivery or Courier: Dockets Operations, U.S. Department of Transportation, 1200 New Jersey Avenue SE, West Building, Ground Floor, Washington, DC 20590-0001, between 9 a.m. and 5 p.m., Monday through Friday, except Federal holidays. To be sure someone is there to help you, please call (202) 366-9317 or (202) 366-9826 before visiting Dockets Operations.

• Fax: (202) 493-2251.

FOR FURTHER INFORMATION CONTACT: Jenny Guarino, Chief, Crash Data Analytics Division, FMCSA, 1200 New Jersey Avenue SE, Washington, DC 20590; (202) 366-4143; jenny.guarino@dot.gov.

SUPPLEMENTARY INFORMATION:

Public Participation and Request for Comments

Submitting Comments

If you submit a comment, please include the docket number for this notice (FMCSA-2025-0065), indicate the specific section of this document to which your comment applies, and provide a reason for each suggestion or recommendation. You may submit your comments and material online or by fax, mail, or hand delivery, but please use only one of these means. FMCSA recommends that you include your name and a mailing address, an email address, or a phone number in the body of your document so FMCSA can contact you if there are questions regarding your submission.

To submit your comment online, go to https://www.regulations.gov/docket/FMCSA-2025-0065/document, click on this notice, click “Comment,” and type your comment into the text box on the following screen.

If you submit your comments by mail or hand delivery, submit them in an unbound format, no larger than 8½ by 11 inches, suitable for copying and electronic filing.

FMCSA will consider all comments and material received during the comment period.

Confidential Business Information (CBI)

CBI is commercial or financial information that is both customarily and actually treated as private by its owner. Under the Freedom of Information Act (5 U.S.C. 552), CBI is exempt from public disclosure. If your comments responsive to the notice contain commercial or financial information that is customarily treated as private, that you actually treat as private, and that is relevant or responsive to the notice, it is important that you clearly designate the submitted comments as CBI. Please mark each page of your submission that constitutes CBI as “PROPIN” to indicate it contains proprietary information. FMCSA will treat such marked submissions as confidential under the Freedom of Information Act, and they will not be placed in the public docket of the notice. Submissions containing CBI should be sent to Brian Dahlin, Chief, Regulatory Evaluation Division, Office of Policy, FMCSA, 1200 New Jersey Avenue SE, Washington, DC 20590-0001 or via email at brian.g.dahlin@dot.gov. At this time, you need not send a duplicate hardcopy of your electronic CBI submissions to FMCSA headquarters. Any comments FMCSA receives not specifically designated as CBI will be placed in the public docket for this notice.

Viewing Comments and Documents

To view any documents mentioned as being available in the docket, go to https://www.regulations.gov/docket/FMCSA-2025-0065/document and choose the document to review. To view comments, click this notice, then click “Browse Comments.” If you do not have access to the internet, you may view the docket online by visiting Dockets Operations on the ground floor of the DOT West Building, 1200 New Jersey Avenue SE, Washington, DC 20590-0001, between 9 a.m. and 5 p.m., Monday through Friday, except Federal holidays. To be sure someone is there to help you, please call (202) 366-9317 or (202) 366-9826 before visiting Dockets Operations.

Privacy

In accordance with 5 U.S.C. 553(c), DOT solicits comments from the public to better inform its processes. DOT posts these comments, including any personal information the commenter provides, to www.regulations.gov as described in the system of records notice DOT/ALL 14 (Federal Docket Management System (FDMS)), which can be reviewed at https://www.transportation.gov/individuals/privacy/privacy-act-system-records-notices. The comments are posted without edits and are searchable by the name of the submitter.

Background

On December 27, 2020, the Consolidated Appropriations Act, 2021 (Pub. L. 116-260), was signed into law, appropriating $30 million to FMCSA to “carry out [a] study of the cause[s] of large truck crashes.” On November 14, 2021, the President signed into law IIJA (Pub. L. 117-58) which contains requirements for a larger study under Section 23006, “Study of Commercial Motor Vehicle Crash Causation.” The requirements under Section 23006 define the scope of the study to include all commercial motor vehicles (CMVs) as defined in 49 U.S.C. 31132.

Section 23006(b)(1) of IIJA requires the Secretary of Transportation (the Secretary) to “carry out a comprehensive study to determine the causes of, and contributing factors to, crashes that involve a commercial motor vehicle.” Section 23006(b)(2) further requires the Secretary to:

A. Identify data requirements, data collection procedures, reports, and any other measures that can be used to improve the ability of States and the Secretary to evaluate future crashes involving CMVs;

B. Monitor crash trends and identify causes and contributing factors; and

C. Develop effective safety improvement policies and programs.

To meet the requirements of Section 23006, FMCSA established the Crash Causal Factors Program (CCFP). Through CCFP, FMCSA is pursuing a nuanced understanding of crashes involving CMVs so that policymakers, law enforcement agencies, regulators, and other interested parties can implement effective crash prevention strategies and programs.

This IC will collect data aimed at identifying key driver, vehicle, motor carrier, and environmental factors that may contribute to fatal crashes involving heavy-duty trucks.¹ FMCSA developed research questions to provide a framework for data collection and analysis in support of this IC. The research questions were informed by insights gained from the Large Truck Crash Causation Study (LTCCS) ² and input provided by FMCSA and its CCFP Steering Committee, other DOT Agencies, including the Bureau of Transportation Statistics (BTS), the Federal Highway Administration, and the National Highway Traffic Safety Administration, and industry stakeholders including American Trucking Associations, the Commercial Vehicle Safety Alliance, and the Owner-Operator Independent Drivers Association.

¹ Heavy-duty trucks are Class 7 and 8 trucks, which have a gross vehicle weight rating of 26,001 pounds or more. Examples of heavy-duty trucks include truck-tractor semi-trailers, furniture trucks, garbage trucks, and cement trucks.

² The LTCCS is available at https://www.fmcsa.dot.gov/research-and-analysis/research/large-truck-crash-causation-study.

Data will be collected from 30 State jurisdictions that were identified as key sampling locations for a nationally representative study sample of 2,000 fatal crashes involving heavy-duty trucks. To ensure the IC collects at least 2,000 fatal crashes, FMCSA is targeting 3,333 fatal crashes. This number is based on a safety margin, or multiplier, of 1.667 that takes into account historical crash data and findings from the surveys conducted under the IC titled “Crash Causal Factors Program: Knowledge of Systems and Processes” (OMB Control No. 2126-0079). This target of 3,333 fatal crashes is the basis for the maximum conceivable burden and the detailed burden estimates below.

FMCSA selected sample States based on three study criteria: (1) their investigative capability; (2) their frequency of State-investigated crashes based on historical data; and (3) their location and how it would contribute to the geographic diversity of the sample. In addition to collecting data from sample States, this IC will accept data from States that are not part of the study sample but would like to participate. These States are referred to as non-sample jurisdictions. To provide an estimate for the fatal crash submissions by non-sample jurisdictions, FMCSA totaled the historical number of fatal crashes involving heavy-duty trucks that they typically investigate in a year (2,082) ³ and took 36 percent of that for an estimate of 750 crashes over the course of the 2-year data collection period. If States are willing and able, this IC will also include data collection on a convenience sample of serious injury crashes. Data will be collected over the course of 2 years, with a target start date of early 2026. Collection and receipt of data may continue beyond the 2-year period based on State-specific agreements and the renewal of this ICR.

³ Fatality Analysis Reporting System (FARS). Accessible through https://ai.fmcsa.dot.gov/CrashStatistics/rptSummary.aspx, 2020-2021.

After the data collection phase is complete, the data will be analyzed to identify crash trends and inform the development of effective, targeted safety policies and programs to help prevent crashes. The CCFP is part of DOT and FMCSA's heightened effort to address the rising number of fatal crashes and reduce roadway fatalities.

How Data Will Be Collected

FMCSA will collect data for this IC using FMCSA's SafeSpect system, which Federal and State Motor Carrier Safety Assistance Program (MCSAP) inspectors, investigators, and analysts currently use to upload motor carrier and CMV inspection and investigation data, as well as a subset of crash data for FMCSA-reportable crashes. FMCSA is developing a new CCFP Reporting Module in SafeSpect to capture the detailed crash data necessary to support the Heavy-Duty Truck Study. This will include an electronic Heavy-Duty Truck Study Initial Incident Form, complete police crash report (PCR) data, and detailed post-crash investigation and reconstruction data. The extent of automated information collection will vary by data type and by State, as each State has its own processes for collecting and storing PCR, post-crash investigation, and reconstruction data. Details about data collection by source are provided below.

Heavy-Duty Truck Study Initial Incident Form. The SafeSpect CCFP Reporting Module will include an electronic Heavy-Duty Truck Study Initial Incident Form, which State MCSAP CMV Inspectors will complete 24 to 48 hours after a qualifying crash occurs.

PCR Data. The SafeSpect CCFP Reporting Module will ingest PCR data for qualifying crashes from States' existing crash repositories (i.e., the system will ingest PCR data that has already been collected and stored by the States). The extent of automation for this process will be dependent on each State's system design and preferences. FMCSA is working to automate the process as much as possible (e.g., via an application programming interface) to reduce the technical burden on participating States. There may be some instances where manual inputs are required. In these cases, a single resource—a dedicated State CMV Data Analyst—will upload, append, or update PCR data as needed.

Post-Crash Investigation Data. The SafeSpect CCFP Reporting Module will ingest post-crash investigation data for qualifying crashes. Detailed processes are to be determined. Post-crash investigators may have the ability to enter post-crash investigation data directly in SafeSpect. Alternatively, SafeSpect may be able to ingest portable document format versions of completed post-crash investigation forms. Where needed, a dedicated State CMV Data Analyst will upload, append, or update post-crash investigation data.

Reconstruction Data. The SafeSpect CCFP Reporting Module will also ingest reconstruction data for qualifying crashes, which will include detailed reports, diagrams, photographs, and other data generated by post-crash investigation and reconstruction teams. A dedicated State CMV Data Analyst will review, code, and upload this data electronically to the SafeSpect CCFP Reporting Module.

Other data will be collected through confidential interviews with individuals and companies involved in the crash. These interviews will be conducted by BTS and protected under BTS's confidentiality statute and the Confidential Information Protection and Statistical Efficiency Act (Pub. L. 107-347, Title V, 116 Stat. 2962). More information on this partnership is available in [insert name of BTS ICR, OMB Control No. 2138-XXXX].

Impact of Less Frequent Collection of Information

Inability to collect data for this study would jeopardize the Agency's goals of gaining a nuanced understanding of the causal factors contributing to crashes involving heavy-duty trucks today and building a foundation for ongoing data collection and analysis.

Results of Data Collection

FMCSA intends to collect data over the course of two years with a target start date of early 2026. Collection and receipt of data may continue beyond the 2-year study period based on State-specific agreements and the renewal of this ICR.

At the conclusion of the study, a final report and supporting database with aggregate, anonymized results will be published. The Agency intends to release partial data findings and analysis prior to releasing the final report.

Title: Crash Causal Factors Program: Heavy-Duty Truck Study Data Collection.

OMB Control Number: 2126-00XX.

Type of Request: New ICR.

Responses: For the purpose of this study, “response” is defined in two ways: (1) collecting data to form an individual crash record, and (2) completing training to support data collection. Respondents include CMV Data Analysts/Designated Personnel, MCSAP CMV Inspectors, and Post-Crash Investigators/Reconstructionists from sample and non-sample jurisdictions that are participating in the study by taking training and collecting data on fatal crashes involving heavy-duty trucks.

Estimated Number of Responses:

Data Collection Responses

Sample jurisdictions: 9,999 responses (1 CMV Data Analyst/Personnel + 1 MCSAP CMV Inspector + 1 Post-Crash Investigator/Reconstructionist per fatal crash × up to 3,333 sample fatal crashes involving heavy-duty trucks).

Non-sample jurisdictions: 2,250 responses (1 CMV Data Analyst/Personnel + 1 MCSAP CMV Inspector +1 Post-Crash Investigator/Reconstructionist per fatal crash × non-sample of 750 fatal crashes involving heavy-duty trucks).

Training Responses

Four trainings will be available to support data collection for the Heavy-Duty Truck Study: (1) the ANSI D.16 Manual on Classification of Motor Vehicle Traffic Crashes and Fatality Analysis Reporting System (FARS) Awareness Training; (2) the CCFP Data Coding and Entry Training; (3) the MCSAP CMV Inspector Webinar Training; and (4) the Post-Crash Investigation Training. The first two trainings will be geared toward the CMV Data Analysts/Designated Personnel, the third training will be for MCSAP CMV Inspectors, and the fourth training will be for Post-Crash Investigators/Reconstructionists.

Sample jurisdictions: 420 training participants, or responses. FMCSA estimates that all 30 sample jurisdictions will participate in the trainings for the CMV Data Analyst and will send one representative for each training (30 participants × 2 trainings = 60). The Agency estimates that all 30 sample jurisdictions will send 10 MCSAP CMV Inspectors to attend the MCSAP CMV Inspector Webinar Training (30 sample jurisdictions × 10 participants per State = 300). The Agency estimates that 12 sample jurisdictions will need the training for the Post-Crash Investigator/Reconstructionist and will send five representatives for the training (60 participants × 1 training = 60).

Non-sample jurisdictions: 65 training participants, or responses. The Agency estimates that up to five of the non-sample jurisdictions will participate in each of the trainings and each jurisdiction will designate one representative to attend the trainings for the CMV Data Analyst (5 non-sample jurisdictions × 1 representative × 2 trainings = 10), one representative to attend the Post-Crash Investigation Training (5 non-sample jurisdictions × 1 representative × 1 training = 5), and 10 representatives to attend the MCSAP CMV Inspector Webinar Training (5 non-sample jurisdictions × 10 representatives × 1 training = 50).

Estimated Time per Response

Data Collection Time

It will take the CMV Data Analyst/Designated Personnel, MCSAP CMV Inspector, and Post-Crash Investigator/Reconstructionist a total of 14 hours to collect data for a single fatal crash. This breaks down into an estimate of 4 hours for the CMV Data Analyst/Designated Personnel, 2 hours for the MCSAP CMV Inspector, and 8 hours for the Post-Crash Investigator/Reconstructionist. This estimate is the same for sample and non-sample jurisdictions.

Training Time

As mentioned above, the Agency will provide four trainings to support study data collection. They will only be offered once prior to the 2-year data collection period. In total, the trainings will amount to 91 hours. The estimates for each individual training are provided below.

(1) ANSI D16 and FARS Awareness Training, 22 hours.

(2) CCFP Data Coding and Entry Training, 28 hours.

(3) MCSAP CMV Inspector Webinar Training, 1 hour.

(4) Post-Crash Investigation Training, 40 hours.

Expiration Date: N/A. This is a new ICR.

Frequency of Response: To ensure the IC collects at least 2,000 crashes, FMCSA is targeting 3,333 crashes over the 2-year data collection period. The IC aims to collect an annual sample of at least 1,000 (and up to 1,666.5) fatal crashes involving heavy-duty trucks per year for 2 years, for a minimum of 2,000 fatal crashes and a maximum of 3,333 fatal crashes.

Estimated Total Burden for Two-Year Period

Data Collection Hours

Sample Jurisdictions

• CMV Data Analyst/Designated Personnel: 4 hours per fatal crash × maximum of 3,333 fatal crashes = 13,332 hours.

• MCSAP CMV Inspector: 2 hours per fatal crash × maximum of 3,333 fatal crashes = 6,666 hours.

• Post-Crash Investigator/Reconstructionist: 8 hours per fatal crash × maximum of 3,333 fatal crashes = 26,664 hours.

Sample Jurisdiction Data Collection Total: 46,662 hours.

Non-Sample Jurisdictions

• CMV Data Analyst/Designated Personnel: 4 hours per fatal crash × maximum of 750 non-sample crashes = 3,000 hours.

• MCSAP CMV Inspector: 2 hours per fatal crash × maximum of 750 non-sample crashes = 1,500 hours.

• Post-Crash Investigator/Reconstructionist: 8 hours per fatal crash × maximum of 750 non-sample crashes = 6,000 hours.

Non-Sample Jurisdiction Annual Data Collection Total: 10,500 hours.

Training Hours

Sample Jurisdictions

• CMV Data Analyst/Designated Personnel:

○ 30 participants × 22 hours for the ANSI and FARS Awareness Training = 660 hours.

○ 30 participants × 28 hours for the CCFP Data Coding and Entry Training = 840 hours.

• MCSAP CMV Inspector:

○ 300 participants × 1 hour MCSAP CMV Inspector Webinar Training = 300 hours.

• Post-Crash Investigator/Reconstructionist:

○ 60 participants × 40 hours Post-Crash Investigator/Reconstructionist Training = 2,400 hours.

Sample Jurisdiction Training Total: 4,200 hours.

Non-Sample Jurisdictions

• CMV Data Analyst/Designated Personnel:

○ 5 participants × 22 hours for the ANSI and FARS Awareness Training = 110 hours.

○ 5 participants × 28 hours for the CCFP Data Coding and Entry Training = 140 hours.

• MCSAP CMV Inspector:

○ 50 participants × 1 hour for the MCSAP CMV Inspector Webinar Training = 50 hours.

• Post-Crash Investigator/Reconstructionist:

○ 5 participants × 40 hours Post-Crash Investigator/Reconstructionist Training = 200 hours.

Non-Sample Jurisdiction Training Total: 500 Hours.

Public Comments Invited: You are asked to comment on any aspect of this IC, including: (1) whether the proposed collection is necessary for the performance of FMCSA's functions; (2) the accuracy of the estimated burden; (3) ways for FMCSA to enhance the quality, usefulness, and clarity of the collected information; and (4) ways that the burden could be minimized without reducing the quality of the collected information. The Agency will summarize or include your comments in the request for OMB's clearance of this IC.

Issued under the authority of 49 CFR 1.87.
Nicole Michel,
Acting Associate Administrator, Office of Research and Registration.

[FR Doc. 2025-16494 Filed 8-27-25; 8:45 am]

BILLING CODE 4910-EX-P